NATIONAL AERONAUTICS AND SPACE ADMINISTRATION

48 CFR Part 1830

Cost Accounting Standards Waivers

AGENCY: National Aeronautics and Space Administration (NASA).

ACTION: Interim rule.

SUMMARY: This interim rule amends the NASA FAR Supplement (NFS) by identifying who within NASA has the authority to approve Cost Accounting Standards waivers.

DATES: Effective date: August 11, 2000.

Comment Date: Comments should be submitted to NASA at the address below on or before October 10, 2000.

ADDRESSES: Interested parties should submit written comments to Joseph Le Cren, NASA Headquarters Office of Procurement, Contract Management Division (Code HK), Washington, DC 20546. Comments also may be submitted by e-mail to joseph.lecren@hq.nasa.gov.

FOR FURTHER INFORMATION CONTACT: Joseph Le Cren, (202) 358-0444.

SUPPLEMENTARY INFORMATION:

A. Background

A Federal Acquisition Regulation (FAR) interim rule was published in the June 6, 2000, Federal Register (65 FR 36028-36030) on the applicability, thresholds, and waiver of Cost Accounting Standards (CAS). The FAR rule reflects changes resulting from the National Defense Authorization Act for Fiscal Year 2000 (Pub. Law 106-65). One of the changes in the interim rule deals with CAS waivers. The rule provides for agency CAS waiver authority when there are contracts or subcontracts with a value of less than $15 million, when the segment performing the contract or subcontract is primarily engaged in the sale of commercial items and would not otherwise be subject to cost accounting standards, or under exceptional circumstances when necessary to meet the needs of the agency. The interim rule authorizes the Heads of Executive Agencies to approve CAS waivers. The rule also allows for this authority to be delegated but not to an official below the senior policymaking level in the agency. NASA has chosen to delegate the authority to approve CAS waivers to the Associate Administrator for Procurement.

B. Regulatory Flexibility Act

NASA certifies that this interim rule will not have a significant economic impact on a substantial number of small business entities under the Regulatory Flexibility Act (5 U.S.C. 601 et seq.) because contracts and subcontracts with small businesses are exempt from all CAS requirements in accordance with 48 CFR 9903.201-1(b)(3). However, comments from small entities concerning the affected NFS subpart will be considered in accordance with 5 U.S.C. 610. Such comments must be submitted separately and should cite 5 U.S.C. 601, et seq.

C. Paperwork Reduction Act

The Paperwork Reduction Act does not apply because the changes to the NFS do not impose recordkeeping or information collection requirements, or collection of information from offerors, contractors, or members of the public which require the approval of the Office of Management and Budget under 44 U.S.C. 3501, et seq.

D. Determination To Issue an Interim Rule

In accordance with 41 U.S.C. 418(d), NASA has determined that urgent and compelling reasons exist to promulgate this interim rule. This action is necessary because this interim rule implements Section 802 of the National Defense Authorization Act for Fiscal Year 2000 (Pub. L. 106-65) and the FAR interim rule. Section 802 became effective 180 days after the date of enactment of Public Law 105-65 (October 5, 1999). The FAR interim rule that implements Section 802 became effective June 6, 2000. It is necessary that NASA publish an interim rule to amend NFS Part 1830 to implement the FAR interim rule. Public comments received in response to this interim rule will be considered in the formation of the final rule.

List of Subjects in 48 CFR Part 1830

Government procurement.

Tom Luedtke,
Associate Administrator for Procurement.

Accordingly, 48 CFR Part 1830 is amended as follows:

1. The authority citation for 48 CFR Part 1830 continues to read as follows:

Authority: 42 U.S.C. 2473 (c)(1).

PART 1830—COST ACCOUNTING STANDARDS

2. Revise the title to Part 1830—Cost Accounting Standards to read as follows:

PART 1830—COST ACCOUNTING STANDARDS ADMINISTRATION

3. Revise section 1830.201-5 to read as follows:

1830.201-5 Waiver. (NASA supplements paragraphs (a) and (e).)

(a)(2) The Associate Administrator for Procurement is the only individual authorized to approve CAS waivers. Requests for waivers that meet the conditions in FAR 30.201-5(b) must be submitted to the Headquarters Office of Procurement (Code HK) at least 30 days before the anticipated contract award date.

(e) The Associate Administrator for Procurement will submit NASA's report to the CAS Board.

[FR Doc. 00-20409 Filed 8-10-00; 8:45 am]

BILLING CODE 7510-01-P